DEPARTMENT OF COMMERCE

National Oceanic and Atmospheric Administration

RIN 0648-XC141

Pacific Fishery Management Council; Public Meeting

AGENCY: National Marine Fisheries Service (NMFS), National Oceanic and Atmospheric Administration (NOAA), Commerce.

ACTION: Notice of public meeting.

SUMMARY: The Pacific Fishery Management Council's (Pacific Council) Ad Hoc South of Humbug Pacific Halibut Workgroup (SHPHW) will hold a conference call to finalize a report summarizing the biological, assessment, monitoring, and allocation history of Pacific halibut in the area south of Humbug Mt.

DATES: The conference call will be held Tuesday, August 15, 2012 from 8 a.m. to 10 a.m.

ADDRESSES: The meeting will be held via conference call, with a listening station provided at the Pacific Council Office, 7700 NE Ambassador Place, Suite 101, Portland, OR 97220-1384, telephone: (503) 820-2280.

FOR FURTHER INFORMATION CONTACT: Mr. Chuck Tracy, Staff Officer, Pacific Council; telephone: (503) 820-2280.

SUPPLEMENTARY INFORMATION: The purpose of the work session is to finalize a report relative to the Pacific Halibut stock assessment, catch apportionment process, and catch monitoring in Area 2A, with the objective of reporting how additional information from south of the Oregon/California border could be integrated into existing processes. The report is scheduled to be presented to the Pacific Council at the September, 2012 Pacific Council meeting in Boise, ID.

Although non-emergency issues not contained in the meeting agenda may come before the SHPHW for discussion, those issues may not be the subject of formal SHPHW action during this meeting. SHPHW action will be restricted to those issues specifically listed in this notice and any issues arising after publication of this notice that require emergency action under Section 305(c) of the Magnuson-Stevens Fishery Conservation and Management Act, provided the public has been notified of the SHPHW 's intent to take final action to address the emergency.

Special Accommodations

This meeting is physically accessible to people with disabilities. Requests for sign language interpretation or other auxiliary aids should be directed to Mr. Kris Kleinschmidt at (503) 820-2280 at least 5 days prior to the meeting date.

Dated: July 27, 2012.
Tracey L. Thompson,
Acting Deputy Director, Office of Sustainable Fisheries, National Marine Fisheries Service.

[FR Doc. 2012-18782 Filed 7-31-12; 8:45 am]

BILLING CODE 3510-22-P